DEPARTMENT OF ENERGY

Federal Energy Regulatory Commission

[Docket No. ES02-4-000]

UtiliCorp United Inc.; Notice of Filing

October 12, 2001.

Take notice that on October 4, 2001, UtiliCorp United Inc. (Applicant) filed with the Federal Energy Regulatory Commission (Commission), an application seeking an order under Section 204(a) of the Federal Power Act authorizing the Applicant to issue (1) up to and including 15,000,000 shares of common stock, (2) up to and including $500,000,000 of debt securities in one or more public offerings. Applicant also requests an exemption from the Commission's competitive bidding and negotiated placement requirements as it relates to the shares of common stock to be issued.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 22, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

David P. Boergers,
Secretary.

[FR Doc. 01-26251 Filed 10-17-01; 8:45 am]

BILLING CODE 6717-01-P